FEDERAL COMMUNICATIONS COMMISSION

[CC Docket Nos. 96-45, 98-171, 90-571, 92-237, 99-200, 95-116, 98-170, NSD File No. L-00-72; FCC 03-31]

Commission Seeks Comment on Staff Study Regarding Alternative Contribution Methodologies

AGENCY: Federal Communications Commission.

ACTION: Notice; solicitation of comments.

SUMMARY: In this document, the Commission seeks comment on a staff study relating to alternative methodologies for calculating contributions to the federal universal service support mechanisms. We urge commenters to comment on the staff analysis of assessment levels under each approach and on the assumptions underlying these projections. Commenters are encouraged to provide their own estimates, projections, and data supporting or refuting the projections.

DATES: Comments are due on or before March 31, 2003. Reply comments are due on or before April 18, 2003.

ADDRESSES: All filings must be sent to the Commission's Secretary: Marlene H. Dortch, Office of the Secretary, Federal Communications Commission, 445 12th Street, SW., Suite TW-A325, Washington, DC 20554. See SUPPLEMENTARY INFORMATION for filing instructions.

FOR FURTHER INFORMATION CONTACT: Diane Law Hsu, Deputy Division Chief, or Paul Garnett, Attorney, Telecommunications Access Policy Division, Wireline Competition Bureau, (202) 418-7400, TTY: (202) 418-0484.

SUPPLEMENTARY INFORMATION: This is a summary of the Commission's Public Notice in CC Docket Nos. 96-45, 98-171, 90-571, 92-237, 99-200, 95-116, 98-170, and NSD File No. L-00-72 released February 26, 2003. In this Public Notice, the Commission seeks comment on a staff study relating to alternative methodologies for calculating contributions to the federal universal service support mechanisms. We urge commenters to comment on the staff analysis of assessment levels under each approach and on the assumptions underlying these projections. Commenters are encouraged to provide their own estimates, projections, and data supporting or refuting the projections.

In the Report and Order and Second Further Notice, 67 FR 79525, December 30, 2002, the Commission adopted interim measures to maintain the viability of universal service in the near term. In addition to seeking comment on whether to retain a revenue-based system, the Commission invited comment on specific aspects of three connection-based proposals. The Commission first asked for comment on a proposed contribution methodology that would impose a minimum contribution obligation on all interstate telecommunications carriers and a flat charge for each end-user connection depending on the nature or capacity of the connection. Next, the Commission sought comment on a proposal to assess all connections based purely on capacity. Under this proposal, contribution obligations for each switched end-user connection would be shared between access and transport providers. Finally, the Commission sought comment on a proposal to assess providers of switched connections based on their working telephone numbers.

To facilitate discussion and analysis of the various alternatives discussed in the Second Further Notice, Commission staff has developed a working paper that estimates potential assessment levels under the newly modified revenue-based system and three connection-based proposals. The assumptions underlying the study are described in the staff paper. The study, and its underlying assumptions were created for the sole purpose of developing a more detailed record addressing these issues in the docket, and do not represent the policies or preferences of the Commission, Commissioners, or the staff.

We seek comment on the study, as well as its underlying assumptions. We specifically ask commenters to analyze the modeled assessment levels, burdens on residential and business customers, and projected industry shares under each approach. To further assist commenters in analyzing the study, the staff spreadsheet that generated the study is available on the Commission's Web site for downloading at http://www.fcc.gov/wcb/universal_service/welcome.html. This spreadsheet will provide access to the formulas utilized in the study and allow commenters to observe how changes to assumptions impact assessment levels and burdens. We recognize that estimates could differ significantly if different assumptions are utilized. We invite commenters to submit their own data and reasoning supporting or disagreeing with the various projections and assumptions. Comments submitted in response to this Public Notice shall be incorporated into the record for the Second Further Notice.

Pursuant to §§ 1.415 and 1.419 of the Commission's rules, interested parties may file comments on or before March 31, 2003, and reply comments on or before April 18, 2003. Comments may be filed using the Commission's Electronic Comment Filing System (ECFS) or by filing paper copies.

Comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission.

Parties also must send three paper copies of their filing to Sheryl Todd, Telecommunications Access Policy Division, Wireline Competition Bureau, Federal Communications Commission, 445 12th Street SW., Room 5-B540, Washington, DC 20554. In addition, commenters must send diskette copies to the Commission's copy contractor, Qualex International, Portals II, 445 12th Street, SW., Room CY-B402, Washington, DC 20554. This is a permit but disclose rulemaking proceeding. Ex parte presentations are permitted, except during the Sunshine Agenda period, provided that they are disclosed as provided in the Commission's rules.

Federal Communications Commission.
William F. Caton,
Deputy Secretary.

[FR Doc. 03-5240 Filed 3-5-03; 8:45 am]

BILLING CODE 6712-01-P